DEPARTMENT OF TRANSPORTATION

National Highway Traffic Safety Administration

[Docket No. NHTSA-2005-20782; Notice 1]

Porsche Cars North America, Inc., Receipt of Petition for Decision of Inconsequential Noncompliance

Dr. Ing. h.c.F Porsche AG has determined that certain vehicles that it manufactured for model years 2003, 2004 and 2005 do not comply with S4.2.2(a) of 49 CFR 571.114, Federal Motor Vehicle Safety Standard (FMVSS) No. 114, “Theft protection.” On behalf of Dr. Ing. h.c.F Porsche AG, Porsche Cars North America, Inc. (Porsche) has filed an appropriate report pursuant to 49 CFR part 573, “Defect and Noncompliance Reports.”

Pursuant to 49 U.S.C. 30118(d) and 30120(h), Porsche has petitioned for an exemption from the notification and remedy requirements of 49 U.S.C. Chapter 301 on the basis that this noncompliance is inconsequential to motor vehicle safety.

This notice of receipt of Porsche's petition is published under 49 U.S.C. 30118 and 30120 and does not represent any agency decision or other exercise of judgment concerning the merits of the petition.

Approximately 28,949 model year 2003, 2004, and 2005 Porsche Cayenne, Cayenne S and Cayenne Turbo vehicles are affected. S4.2.2(a) of FMVSS No. 114 requires that

* * * provided that steering is prevented upon the key's removal, each vehicle * * * [which has an automatic transmission with a “park” position] may permit key removal when electrical failure of this [key-locking] system * * * occurs or may have a device which, when activated, permits key removal.

In the affected vehicles, the steering does not lock when the ignition key is removed from the ignition switch using the optionally provided device that permits key removal in the event of electrical system failure or when the transmission is not in the “park” position.

Porsche believes that the noncompliance is inconsequential to motor vehicle safety and that no corrective action is warranted. Porsche states the following in its petition:

The ignition key/transmission interlock requirements of S4.2 were promulgated in Docket 1-21 (Notice 9 published in May 30, 1990). In that notice there was no provision for an emergency operation system to permit ignition key removal when the transmission is not in “Park” position. In response to several automobile manufacturer petitions for reconsideration, the agency published Notice 10 (March 26, 1991) to supplement S4.2 by the addition of S4.2.1 and S4.2.2 that did permit an emergency operation system to be located behind an opaque cover that could only be removed via the use of a tool. The use of the emergency operation system allows the removal of the ignition key when the transmission is not in “Park.” The emergency operation system would also permit moving the shift lever out of “Park” position after removal of the ignition key. The use of the emergency operation system was dependent upon the steering system being locked whenever the ignition key is removed.

Some manufacturers again filed petitions for reconsideration to the Notice 10 amendment which the agency responded [to] in Notice 11 (January 17, 1992). Notice 11 amended S4.2.2(a) to permit ignition key removal even if the transmission were not in “Park” if there is an electrical failure of the vehicle without activation of the emergency operating system. When the vehicle's electrical system was behaving normally, removal of the ignition key in transmission positions other than “Park” would only be permissible via the emergency operation system. Ignition key removal in transmission shift positions other than “Park” required, as before, that the steering system would lock.

The requirement that the steering be locked when the ignition key is removed was debated in both Notice 10 and 11 “to ensure that Standard No. 114's theft protection aspects are not jeopardized.” Nothing in the record indicates that this requirement was based on a need to prevent personal or property damage.

Porsche states that it believes the noncompliance is inconsequential to motor vehicle safety because the steering lock function when the vehicle is without electrical power and the ignition key is removed has no safety implication because the vehicle is immobilized. Porsche explains:

In the Cayenne models at issue here the removal of the ignition key using the emergency operation system is a vehicle security function to prevent the vehicle from being driven by simply jump-starting the vehicle, due to the fact that the vehicle is equipped with an immobilizer that prevents starting of the vehicle without the electronically coded ignition key. The key-code is recorded in the engine control module and cannot be electrically bypassed.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 am to 5 pm except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: (30 days after Publication Date).

Authority: (49 U.S.C. 30118, 30120: delegations of authority at CFR 1.50 and 501.8)

Issued on: April 5, 2005.
Ronald L. Medford,
Senior Associate Administrator for Vehicle Safety.

[FR Doc. 05-7198 Filed 4-8-05; 8:45 am]

BILLING CODE 4910-59-P